DEPARTMENT OF COMMERCE

International Trade Administration

[A-570-945]

Prestressed Concrete Steel Wire Strand From the People's Republic of China: Postponement of the Preliminary Determination of the Antidumping Duty Investigation

AGENCY: Import Administration, International Trade Administration, Department of Commerce.

DATES: Effective Date: October 26, 2009.

FOR FURTHER INFORMATION CONTACT: Alan Ray, AD/CVD Operations, Office 9, Import Administration, International Trade Administration, U.S. Department of Commerce, 14th Street and Constitution Avenue, NW., Washington, DC 20230; telephone: (202) 482-5403.

Background

On June 23, 2009, the Department of Commerce (“Department”) published the initiation of the investigation of prestressed concrete steel wire strand (“PC Strand”) from the People's Republic of China (“PRC”), covering the period of October 1, 2008, through March 31, 2009.¹ On July 28, 2009, the Department selected two companies as mandatory respondents for this investigation: Tianjin Shengte PC Steel Strand Co., (“Tianjin Shengte”) and Silvery Dragon PC Steel Products (“Silvery Dragon”).²

¹ Prestressed Concrete Steel Wire Strand From the People's Republic of China: Initiation of Antidumping Duty Investigation, 74 FR 29655 (June 23, 2009).

² Memorandum to James C. Doyle, Office 9 Director, through Alex Villanueva, Office 9 Program Manager, from Alexis Polovina, Office 9 Case Analyst, dated July 28, 2009, Antidumping Duty Investigation of Prestressed Concrete Steel Wire Strand from the People's Republic of China (“PRC”): Respondent Selection (“Respondent Selection Memo”).

On August 7, 2009, the Department received a letter from Silvery Dragon stating that the company would no longer be participating in the investigation. Tianjin Shengte failed to properly file a response to the Department's questionnaire in a timely manner. Since the two originally selected mandatory respondents no longer participated, the Department determined that it was appropriate in this case to replace them with two new additional respondents. On August 14, 2009, the Department selected Jiangxi Xinhua Metal Products Co. as a mandatory respondent,³ and on September 11, 2009, the Department selected Wuxi Jingyang Metal Products Co. as a voluntary respondent.⁴ The preliminary determination of this antidumping duty investigation is currently due on November 3, 2009.

³ Memorandum to the File from Alan Ray, Office 9 Case Analyst, through Alex Villanueva, Office 9 Program Manager, dated August 14, 2009, Antidumping Duty Investigation of Prestressed Concrete Steel Wire Strand from the People's Republic of China (“PRC”): Replacement of Mandatory Respondent.

⁴ Memorandum to the File, from Alan Ray, Office 9 Case Analyst, dated September 11, 2009, Antidumping Duty Investigation of Prestressed Concrete Steel Wire Strand from the People's Republic of China (“PRC”): Replacement of Mandatory Respondent.

Statutory Time Limits

Pursuant to section 733(c)(1)(B) of the Tariff Act of 1930, as amended (“the Act”), the Department can extend the period for a preliminary determination until not later than 190 days after the date on which the administrative authority initiates an investigation if the Department concludes that the parties concerned are cooperating and determines that:

The case is extraordinarily complicated by the reason of (I) The number and complexity of the transactions to be investigated or adjustments to be considered, (II) the novelty of the issues presented, or (III) the number of firms whose activities must be investigated, and (ii) additional time is necessary to make the preliminary determination.

Extension of Time Limit of Preliminary Determination

Because the Department replaced both of the originally selected mandatory respondents in this investigation, thereby making it extraordinarily complicated to properly prepare a preliminary determination within the original statutory timeframe, the Department finds it necessary to extend the current preliminary determination deadline. Moreover, on October 6, 2009, Petitioners ⁵ made a timely request pursuant to 733(c)(1)(B)(i) of the Act for a thirty-day postponement of the preliminary determination.

⁵ American Spring Wire Corp., Insteel Wire Products Company, and Sumiden Wire Products Corp.

Therefore, for the reasons identified above, we are postponing the preliminary determination under section 733(c)(1)(B) of the Act by thirty days from November 3, 2009, to December 3, 2009.

This notice is published pursuant to sections 733(c)(2) of the Act and 19 CFR 351.205(f)(1).

Ronald K. Lorentzen,
Acting Assistant Secretary for Import Administration.

[FR Doc. E9-24961 Filed 10-23-09; 8:45 am]

BILLING CODE 3510-DS-M